DEPARTMENT OF ENERGY

Federal Energy Regulatory Commission

[Docket No. CP08-73-000]

Southern Star Central Gas Pipeline, Inc.; Notice of Request Under Blanket Authorization

February 27, 2008.

Take notice that on February 15, 2008, Southern Star Central Gas Pipeline, Inc. (Southern Star), 4700 State Highway 56, Owensboro, Kentucky 42301, filed in Docket No. CP08-73-000, a prior notice request pursuant to sections 157.205 and 157.210 of the Federal Energy Regulatory Commission's regulations under the Natural Gas Act for authorization to modify two existing compressors and station suction piping at the Hesston Compressor Station, located in Harvey County, Kansas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Southern Star proposes to upgrade and clean-burn two existing compressor units in order to increase the horsepower of each unit from 1,100 horsepower to 1,350 horsepower and to extend by approximately 140 feet, the station suction header to tie-in the suction header to all eight compressor units at the station. Southern Star estimates the cost of construction to be $4,679,749.

Southern Star further states that the proposed compression upgrade and piping modification will be required to achieve higher discharge pressures required to reliably flow contractual firm volumes that Westar Energy, Inc. desires to redirect from certain of their existing facilities located south of the Hesston Compressor Station to their new power generation plant east of the station, located in Emporia, Kansas. Southern Star asserts that no additional capacity will be created by the proposed modifications.

Any questions regarding the application should be directed to David N. Roberts, Manager, Regulatory Affairs, Southern Star Central Gas Pipeline, Inc., 4700 State Highway 56, Owensboro, Kentucky 42301, or call (270) 852-4654.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR. 385.2001(a)(1)(iii) and the instructions on the Commission's Web site (http://www.ferc.gov) under the “e-Filing” link.

Kimberly D. Bose,
Secretary.

[FR Doc. E8-4165 Filed 3-4-08; 8:45 am]

BILLING CODE 6717-01-P